DEPARTMENT OF THE TREASURY

Internal Revenue Service

Advisory Group to the Internal Revenue Service Tax Exempt and Government Entities Division (TE/GE); Meeting

AGENCY: Internal Revenue Service (IRS), Tax Exempt and Government Entities Division, Treasury.

ACTION: Notice.

SUMMARY: The Advisory Committee on Tax Exempt and Government Entities (ACT) will hold a public meeting on Wednesday, June 8, 2016.

FOR FURTHER INFORMATION CONTACT: Mark O'Donnell, TE/GE Communications and Liaison; 1111 Constitution Ave. NW., SE:T:CL-NCA 676; Washington, DC 20224. Telephone: 202-317-8736 (not a toll-free number). Email address: tege.advisory.comm@irs.gov.

SUPPLEMENTARY INFORMATION: By notice herein given, pursuant to section 10(a)(2) of the Federal Advisory Committee Act, 5 U.S.C. App. (1988), a public meeting of the ACT will be held on Wednesday, June 8, 2016, from 2:00 p.m. to 4:00 p.m., at the Internal Revenue Service; 1111 Constitution Ave. NW., Room 3313; Washington, DC. Issues to be discussed relate to Employee Plans, Exempt Organizations and Government Entities. A report from five ACT subcommittees covers the following topics:

• Employee Plans: Analysis and Recommendations Regarding Changes to the Determination Letter Program

• Exempt Organizations: Stewards of the Public Trust: Long-Range Planning for the Future of the IRS and the Exempt Community

• Federal, State and Local Governments: Revised FSLG Trainings and Communicating with Small Local Governments

• Indian Tribal Governments: Survey of Tribes Regarding IRS Effectiveness with Current Topics of Concerns and Recommendations

• Tax Exempt Bonds: Recommendations for Continuous Improvement and Enhancing Resources in the Tax Exempt Bond Market

Last minute agenda changes may preclude advance notice. Due to limited seating and security requirements, attendees must call Nicole Swire to confirm their attendance. Mrs. Swire can be reached at 202-317-8736, or email attendance request to tege.advisory.comm@irs.gov. Attendees are encouraged to arrive at least 30 minutes before the meeting begins to allow sufficient time for security clearance. Photo identification must be presented. Please use the main entrance at 1111 Constitution Ave. NW., to enter the building. Should you wish the ACT to consider a written statement, please call 202-317-8736, or write to: Internal Revenue Service; 1111 Constitution Ave. NW.; SE:T:CL—NCA-676, Washington, DC 20224, or: tege.advisory.comm@irs.gov.

Dated: April 26, 2016.
Mark F. O'Donnell,
Designated Federal Officer, Tax Exempt and Government Entities Division, Internal Revenue Service.

[FR Doc. 2016-10064 Filed 4-28-16; 8:45 am]

BILLING CODE 4830-01-P